DEPARTMENT OF DEFENSE

Department of the Army; Corps of Engineers

Intent To Prepare a Draft Environmental Impact Statement for the Sabine Pass to Galveston Bay, TX, Coastal Storm Risk Management and Ecosystem Restoration Feasibility Study

AGENCY: Department of the Army, U.S. Army Corps of Engineers, DoD.

ACTION: Notice of Intent.

SUMMARY: The Sabine Pass to Galveston Bay, Texas, study area encompasses six coastal counties on the upper Texas Gulf coast—Orange, Jefferson, Chambers, Harris, Galveston and Brazoria. The Draft Integrated Feasibility Report and Environmental Impact Statement (DIFR-EIS) will evaluate structural and non-structural alternatives which address coastal storm risk management (CSRM) and ecosystem restoration (ER) impacts in the study area. The environmental impact study will focus on environmental and social conditions currently present and those likely to be affected by potential future impacts of storm surge and ecosystem restoration opportunities. Several major historical surge events have occurred in the study area in the past 120 years. The most notable is perhaps the 1900 Storm, which inundated most of the island city of Galveston, TX, and adjacent areas on the mainland. The storm was responsible for over eight thousand deaths and up to $30 million in property damage. Hurricane Rita in 2005 resulted in storm surge of 9.2 feet in Port Arthur, TX, and just over 8 feet in Sabine Pass. Most recently, Hurricane Ike in 2008 produced storm surges of 14 feet near Sabine Pass and 11 to 12 feet across Sabine Lake. The City of Port Arthur was spared from the impacts of storm surge thanks to its existing 14- to 17-foot hurricane flood protection system. However, the remaining southern half of Jefferson County was inundated, with estimated high water marks reaching 18 to19 feet to the south and east of High Island. The City of Galveston was protected from Hurricane Ike's high energy surge impacts by the Galveston Seawall, but much of the City of Galveston was later flooded by about 6 to 10 feet of surge coming from the bay. The City of Texas City was protected from Ike's surge impacts by its existing hurricane flood protection system. At risk within the study area are approximately 2.26 million people living within the storm-surge inundation zone, three of the nine largest oil refineries in the world, 40 percent of the nation's petrochemical industry, 25 percent of the nation's petroleum-refining capacity, and three of the ten largest U.S. seaports.

DATES: Comments on proposed DIFR-EIS will be accepted through December 24, 2014.

ADDRESSES: U.S. Army Corps of Engineers, Galveston District, P.O. Box 1229, Galveston, TX 77553-1229. Emails may be sent to Janelle.S.Stokes@usace.army.mil.

FOR FURTHER INFORMATION CONTACT: Ms. Sheridan Willey, (409) 766-3917, Planning Lead, Plan Formulation Section, Regional Planning and Environmental Center; or Ms. Janelle Stokes, (409) 766-3039, Environmental Lead, NEPA/Cultural Resources Section, Regional Planning and Environmental Center.

SUPPLEMENTARY INFORMATION: (1) Background. In 2011, the Corps of Engineers and non-Federal sponsor, the Texas General Land Office, agreed to rescope an earlier study to evaluate plans to develop CSRM and ER features over the entire six-county region covering the upper Texas coast. The study is authorized under Section 4091, Water Resources Development Act of 2007 Public Law 110-114.

(2) Alternatives. Structural alternatives that will be evaluated are: (1) A new surge protection system in Orange and Jefferson Counties, including small, navigable surge gates on Cow and Adams Bayous; (2) a large navigable surge gate in the Neches River near the Rainbow Bridge; and (3) reevaluation of the existing Port Arthur and Freeport Hurricane Flood Protection Systems. Non-structural measures such as targeted buy-outs, will also be evaluated. Structural and non-structural alternatives to address storm surge impacts in the Galveston Bay system, as well as ER measures throughout the six-county study area will be evaluated programmatically, with recommendations being made for future detailed analyses of feasible alternatives.

(3) Scoping. In February and March of 2012, four scoping meetings were held in the cities of Beaumont, Seabrook, Galveston and Freeport, TX. The scoping process involved Federal, State and local agencies, Federally-recognized Indian tribes, and other interested persons and organizations. Comments were received for 30 days following each scoping meeting. A total of 285 ideas were collected and these were collated and screened into a detailed list of structural and non-structural CSRM and ER measures that are being considered during this study. At this time, there are no plans for an additional scoping meeting. However, input from affected Federal, state and local agencies, affected Indian tribes, and other interested private organizations and parties is being solicited with this notice.

(4) Coordination. Further coordination with environmental agencies will be conducted under the National Environmental Policy Act, the Fish and Wildlife Coordination Act, the Endangered Species Act, the Clean Water Act, the Clean Air Act, the National Historic Preservation Act, the Magnuson-Stevens Fishery Conservation and Management Act, and the Coastal Zone Management Act under the Texas Coastal Management Program.

(5) DIFR-EIS Preparation. It is estimated that the DIFR-EIS will be available to the public for review and comment in August, 2015.

Brenda S. Bowen,
Army Federal Register Liaison Officer.

[FR Doc. 2014-27723 Filed 11-21-14; 8:45 am]

BILLING CODE 3720-58-P